DEPARTMENT OF THE INTERIOR

Bureau of Land Management

[WY-100-08-1610-DJ]

Notice of Call for Nominations for the Pinedale Anticline Working Group (PAWG) as Part of the Adaptive Management Program for the Pinedale Anticline Project Area in Southwestern Wyoming

AGENCY: Bureau of Land Management, Interior.

ACTION: Notice.

DATES: All nominations should be postmarked by January 17, 2008. Final appointments will be made by the Secretary of the Interior.

ADDRESSES: Nominations should be sent to Caleb Hiner, Pinedale Field Office, 1625 West Pine Street, P.O. Box 768, Pinedale, Wyoming 82941.

SUMMARY: On June 26, 2006, the Secretary of the Interior renewed the Charter for the PAWG. Representatives of the public-at-large, the State of Wyoming, Office of the Governor, and the landowners within or bordering the Pinedale Anticline area are being solicited. Individuals or groups interested in becoming a member of the PAWG should submit the specified information by the date specified in the DATES section of this notice.

FOR FURTHER INFORMATION CONTACT: Caleb Hiner, PAWG and Task Groups Coordinator, Bureau of Land Management, Pinedale Field Office, P.O. Box 768, Pinedale, Wyoming 82941, telephone (307) 367-5352.

SUPPLEMENTARY INFORMATION: On June 26, 2006, the Secretary of the Interior renewed the Charter for the Pinedale Anticline Working Group and Task Groups (PAWG). Nine members representing interest groups, governmental agencies, and local interests are appointed to the PAWG to serve a 2-year term. Representatives of the public-at-large, the State of Wyoming, and the adjacent landowners have resigned. Nominations are being taken for these three positions.

Additional information can be found at: http://www.blm.gov/wy/st/en/field_offices/Pinedale/pawg.html.

The charter established several membership selection criteria and operational procedures were developed once the Working Group became active. These are listed as follows:

1. The PAWG is composed of nine members and six additional representatives who reside in the State of Wyoming. The PAWG members will be appointed by and serve at the pleasure of the Secretary of the Interior.

2. Members to be selected to serve on the PAWG are as follows:

a. A representative from the State of Wyoming, Office of the Governor.

b. A representative from the landowners within or bordering the Pinedale Anticline area.

c. A representative of the public-at-large.

3. All members should have demonstrated an ability to analyze and interpret data and information, evaluate proposals, identify problems, and promote the use of collaborative management techniques (such as, long term planning, management across jurisdictional boundaries, data sharing, information exchange, and partnerships), and a knowledge of issues involving oil and gas development activities.

4. The service of the PAWG members shall be as follows:

a. PAWG members will be appointed to 2-year terms, subject to removal by the Secretary of the Interior. At the discretion of the Secretary of the Interior, members may be reappointed to additional terms.

b. The Chairperson of the PAWG will be selected by the PAWG.

c. The term of the Chairperson will not exceed 2 years.

Individuals, or representatives of groups, who wish to become members of the Pinedale Anticline Working Group should complete and submit the following information to this office by the date specified in the DATES section of this notice.

1. Representative Group to be considered for:

2. Nominee's Full Name:

3. Business Address:

4. Business Phone:

5. Home Address:

6. Home Phone:

7. Occupation/Title:

8. Qualifications (education including colleges, degrees, major field of study and/or training):

9. Career highlights (significant related experience, civil and professional activities, elected offices, prior advisory committee experience, or career achievements related to the interest to be represented):

10. Experience in collaborative management techniques, such as long term planning, management across jurisdictional boundaries, data sharing, information exchange and partnerships:

11. Experience in data analysis and interpretation, problem identification and evaluation of proposals:

12. Knowledge of issues involving oil and gas development:

13. Indicate specific area of interest to be represented from the following:

a. A representative from the State of Wyoming, Office of the Governor;

b. A representative from the landowners within or bordering the Pinedale Anticline area; and

c. A representative from the public-at-large.

14. List any leases, licenses, permits, contracts or claims that you hold which involve lands or resources administered by the BLM:

15. Attach two or three letters of reference from interests or organization(s) to be represented:

16. Nominated by: Include nominator's name, address, and telephone number(s):

17. Date of nomination.

Groups that nominate more than one person should indicate their preferred order of appointment selection.

Dated: October 19, 2007.
Robert A. Bennett,
State Director.

[FR Doc. E7-23324 Filed 11-30-07; 8:45 am]

BILLING CODE 4310-22-P